DEPARTMENT OF THE TREASURY

Agency Information Collection Activities; Submission for OMB Review; Comment Request; Multiple Departmental Offices Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before August 28, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained from Jennifer Leonard by emailing PRA@treasury.gov, calling (202) 622-0489, or viewing the entire information collection request at www.reginfo.gov.

SUPPLEMENTARY INFORMATION:

Departmental Offices (DO)

Title: Treasury International Capital Form S, “Purchases and Sales of Long-term Securities by Foreign-Residents”.

OMB Control Number: 1505-0001.

Type of Review: Revision of a currently approved collection.

Abstract: Form S is required by law and is designed to collect timely information on international portfolio capital movements, including foreign-residents' purchases and sales of long-term securities in transactions with U.S. persons. The information is important to key components of the U.S. balance of payments accounts and international investment position, as well as in the formulation of U.S. international financial and monetary policies.

Form: Form S.

Affected Public: Businesses or other for-profits.

Estimated Total Annual Burden Hours: 17,346.

Title: Troubled Asset Relief Program—Conflicts of Interest.

OMB Control Number: 1505-0209.

Type of Review: Extension without change of a currently approved collection.

Abstract: Authorized under the Emergency Economic Stabilization Act (EESA) of 2008 (Pub. L. 110-343), as amended by the American Recovery and Reinvestment Act (ARRA) of 2009, the Department of the Treasury has implemented aspects of the Troubled Asset Relief Program (TARP) by codifying section 108 of EESA. Title 31 CFR part 31, TARP Conflict of Interest, sets forth the process for reviewing and addressing actual or potential conflicts of interest among any individuals or entities seeking or having a contract or financial agency agreement with the Treasury for services under EESA. The information collection required by this part will be used to evaluate and minimize real and apparent conflicts of interest related to contractual or financial agent agreement services performed under TARP.

Form: None.

Affected Public: Businesses or other for-profits.

Estimated Total Annual Burden Hours: 572.

Title: Generic Clearance for the Collection of Qualitative Feedback on Agency Service Delivery.

OMB Control Number: 1505-0231.

Type of Review: Extension without change of a currently approved collection.

Abstract: This collection of information is necessary to enable the Agency to garner customer and stakeholder feedback in an efficient, timely manner, in accordance with our commitment to improving service delivery. The information collected from our customers and stakeholders will help ensure that users have an effective, efficient, and satisfying experience with the Agency's programs.

Form: None.

Affected Public: Individuals and households.

Estimated Total Annual Burden Hours: 3,500.

Authority: 44 U.S.C. 3501 et seq.

Dated: July 25, 2017.
Spencer W. Clark,
Treasury PRA Clearance Officer.

[FR Doc. 2017-15974 Filed 7-27-17; 8:45 am]

BILLING CODE 4810-25-P